ENVIRONMENTAL PROTECTION AGENCY

[FRL-8024-4]

Office of the Science Advisor; Office of Research and Development; Broad Agency Announcement for Conferences, Workshops, or Meetings

AGENCY: Environmental Protection Agency.

ACTION: Notice.

SUMMARY: The U.S. Environmental Protection Agency (EPA) is issuing this Broad Agency Announcement (BAA) soliciting applications from eligible applicants for the planning, arranging, administering, and conducting of conferences, workshops, and/or meetings in the areas of EPA mission related issues connected to protecting, human health and safeguarding the natural environment; advancing the scientific and technical research that promotes environmental protection; exploring current and emerging issues of importance to environmental protection; and/or encouraging collaboration among the nation's best scientists and engineers in academia, business and nonprofit research institutes.

DATES: The opening date for this BAA is January 19, 2006 and it will close on January 18, 2007. The Agency will make funding decisions on a quarterly basis beginning approximately April 18, 2006, and thereafter approximately every three months. The next funding decisions will be approximately on July 17, 2006, October 16, 2006, and January 16, 2007. However, in order for a proposal to be considered for funding, it must be received by EPA no later than three months prior to the start of the conference for which the applicant is requesting EPA funding under this BAA and no later than January 18, 2007.

FOR FURTHER INFORMATION CONTACT: Eligibility Contact: Michael Bender, 202-564-6829; email: bender.michael@epa.gov Electronic Submissions: ORD Call Center (Phone: 202-343-5500) Technical Contact: [Michael Bender, Project Officer]; Phone: 202-564-6829; e-mail: bender.michael@epa.gov

SUPPLEMENTARY INFORMATION:

I. Introduction

Advancing sound science on cross-cutting issues at EPA is a goal of the Office of the Science Advisor (OSA), Office of Research and Development (ORD) which is based at EPA headquarters in Washington, DC. OSA, Office of Research and Development's mission includes supporting leading-edge research to stimulate the sound use of science and technology to fulfill EPA's mission to protect human health and safeguard the natural environment. One way to accomplish this is to provide broad informational technical support through conferences, which further environmental research by communicating ideas, knowledge, expertise, innovation and creativity in solving complex environmental issues. The Agency intends to assist in this sharing of information with the broad scientific community by awarding grant/cooperative agreement support for such efforts. The Agency also encourages the coordination and use of EPA funding with other Federal and/or non Federal sources of funds to leverage additional resources to carry out the proposed effort. Applicants may use their own funds or other resources (e.g. support from a collaborating institution or organization) for a voluntary match or cost share if the standards at 40 CFR 30.23 or 40 CFR 31.24, as applicable, are met.

II. Eligibility Information

States, territories and possessions, and Tribal nations of the U.S., including the District of Columbia, public and private universities and colleges, hospitals, laboratories, local governments, other public or private nonprofit institutions, are eligible to apply. Universities and educational institutions must be subject to OMB Circular A-21. Profit-making firms are not eligible to receive grants from the EPA under this program.

Eligible nonprofit organizations include any organizations that meet the definition of nonprofit in OMB Circular A-122. However, nonprofit organizations described in Section 501(c)(4) of the Internal Revenue Code that lobby are not eligible to apply.

III. Award Information

Anticipated Type of Award: Grant or Cooperative Agreement.

Estimated Number of Awards Under this BAA: Approximately 25 awards depending upon the amount of any individual award.

Anticipated Funding Amount: Office of the Science Advisor (OSA), Office of Research and Development may have up to an estimated $150,000 for awards under this BAA; other ORD offices may have additional funding of up to an estimated $600,000 available for awards under this BAA—therefore the total estimated amount available for all awards under this BAA may be approximately $750,000.

IV. Potential Funding per Grant

EPA may award funding under this BAA in the following two categories:

1. Meeting and workshop support up to $25,000 per agreement including direct and indirect costs. This category is for major support of small scale, focused meetings and workshops on a specific subject or subjects, or for partial support of a larger conference.

2. Large conference support up to $75,000 per agreement including direct and indirect costs. This category is for major support of broader conferences that include a wide range of subjects relating to environmental research.

EPA will not consider applications for less than $5,000.

All grants and cooperative agreements will have a duration of up to 1 year to provide for follow-up activities such as publication of reports and proceedings. Cost-sharing is not required for awards under this BAA.

V. Award Notices

EPA will notify successful and unsuccessful applicants by e-mail. Applicants selected for funding will be required to provide additional information listed under “Award Notices.” EPA may require selected applicants to submit additional forms and certifications. The application will then be forwarded to EPA's Grants Administration Division for award in accordance with the EPA's procedures. The Agency is not obligated to fund selected applicants until a grant is awarded by EPA's Grants Administration Division.

Applicants are cautioned that only a grants officer can bind the Government to the expenditure of funds; preliminary selection by EPA does not guarantee an award will be made. The official notification of an award will be made by the Agency's Grants Administration Division.

Nonprofit applicants recommended for funding under this BAA will be subject to a preaward administrative capability review consistent with sections 8.b, 8.c, and 9.d of EPA Order 5700.8, EPA Policy on Assessing Capabilities of Non-Profit Applicants for Managing Assistance Awards (http://www.epa.gov/ogd/grants/regulations.htm).

Before or after an award, applicants may be required to provide additional quality assurance documentation.

Further information, if needed, may be obtained from the EPA officials indicated under the section titled: “For Further Information Contact.” Information regarding this BAA obtained from sources other than these Agency Contacts may not be accurate. E-mail inquiries are preferred. To view the full Broad Agency Announcement go to: http://www.epa.gov/ord/htm/grantopportunity.htm.

Dated: January 18, 2006.
William H. Farland,
Chief Scientist, Office of the Science Advisor.

[FR Doc. E6-810 Filed 1-23-06; 8:45 am]

BILLING CODE 6560-50-P